DEPARTMENT OF HOMELAND SECURITY

Coast Guard

[Docket No. USCG-2012-0772]

Carriage Standards for Bridge Navigational Watch Alarm Systems (BNWAS) Aboard U.S. Flagged Vessels

AGENCY: Coast Guard, DHS.

ACTION: Notice of International Standards.

SUMMARY: The Coast Guard announces the implementation date of carriage standards for Bridge Navigational Watch Alarm Systems (BNWAS), in accordance with the Articles of the International Convention for the Safety of Life at Sea (SOLAS) Chapter V, Regulation 19, for U.S. flagged vessels engaged on international voyages. The purpose of a BNWAS is to detect operator disability that could lead to marine accidents.

DATES: The effective date for the BNWAS standard, according to the terms of SOLAS Chapter V, Regulation 19, was January 1, 2011. The implementation schedule for carriage of a BNWAS is listed below in the SUPPLEMENTARY INFORMATION section.

ADDRESSES: To view the documents mentioned in this notice, go to http://www.regulations.gov and use “USCG-2012-0772” as your search term. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

FOR FURTHER INFORMATION CONTACT: For information concerning this notice, contact LCDR Christopher Gagnon, U.S. Coast Guard, Commercial Vessel Compliance Division (CG-CVC-1), telephone 202-372-1224 or email CG-cvc-1@uscg.mil.

SUPPLEMENTARY INFORMATION:

Background

The purpose of a BNWAS is to detect operator disability that could lead to marine accidents. A BNWAS monitors the awareness of the Officer of the Watch (OOW) and automatically alerts the Master or another qualified OOW if, for any reason, the on-duty OOW becomes incapable of performing his or her duties. This purpose is achieved through a series of indications and alarms to alert the on-duty OOW and, if he or she does not respond, then to alert the Master or another qualified OOW at a remote location onboard the vessel. Additionally, a BNWAS may provide the on-duty OOW with a means of calling for immediate assistance, if required. A BNWAS should be operational whenever the ship's heading or track control system is engaged, unless inhibited by the Master.

The International Maritime Organization (IMO) established BNWAS carriage requirements in order to enhance safety of navigation. The BNWAS performance standards are outlined in IMO Resolution MSC.128(75), adopted on May 20, 2002. Effective as of January 1, 2011, IMO Resolution MSC.282(86) amended SOLAS Chapter V, Regulation 19, and established an implementation schedule for the carriage of a BNWAS (SOLAS V, Reg.19.2.2.3) for new and existing ships as follows:

• Cargo ships ¹ of 150 gross tonnage and upwards and passenger ships irrespective of size constructed on or after July 1, 2011;

¹ SOLAS defines the term cargo ship to mean any ship which is not a passenger ship (SOLAS Chapter I, Reg.2(g)).

• Passenger ships ² irrespective of size constructed before July 1, 2011, not later than the first survey after July 1, 2012;

² SOLAS defines the term passenger ship to mean a ship which carries more than twelve passengers (SOLAS Chapter I, Reg.2(f)).

• Cargo ships of 3,000 gross tonnage and upwards constructed before July 1, 2011, not later than the first survey ³ after July 1, 2012;

³ SOLAS defines the term first survey to mean the first annual survey, the first periodical survey or the first renewal survey whichever is due first after the date specified in the relevant regulation or any other survey if the Administration deems it to be reasonable and practicable, taking into account the extent of repairs and alterations being undertaken. SOLAS also states that for a ship under construction, where the keel is laid before, but the ship is delivered after, the date specified in the relevant regulation, the initial survey is the first survey (MSC.1/Circ.1290, Dec. 16, 2008). For non-class inspected vessels, the Coast Guard expects that foreign authorities would interpret first survey to mean the first inspection for certification or annual inspection. For uninspected vessels, the Coast Guard expects that foreign authorities would interpret first survey to mean the date of the next annual Load Line survey.

• Cargo ships of 500 gross tonnage and upwards but less than 3,000 gross tonnage constructed before July 2011, not later than the first survey after July 1, 2013; and

• Cargo ships of 150 gross tonnage and upwards but less than 500 gross tonnage constructed before July 1, 2011, not later than the first survey after July 1, 2014.

IMO Resolution MSC.282(86) also amended SOLAS Chapter V, Regulation 19 by stating that the BNWAS shall be in operation whenever the ship is underway at sea. Additionally, a BNWAS installed prior to July 1, 2011 may subsequently be exempted from full compliance with IMO standards at the discretion of the vessel's flag state.

In addition, section 1.1 of SOLAS Chapter V, Regulation 19 provides that BNWAS requirements apply to ships constructed after July 1, 2002. We note, however, that the IMO has received proposed amendments from the Bahamas and Denmark to amend this applicability section to include vessels constructed before July 1, 2002.⁴ Unless and until the IMO updates the applicability provisions of SOLAS Chapter V, Regulation 19, the Coast Guard will recognize vessels constructed before July 1, 2002 as exempt from the SOLAS BNWAS requirements.

⁴ A copy of IMO Circular letter No. 3333, dated December 10, 2012, is available for viewing the public docket for this notice.

Voluntary Compliance

The Coast Guard has not yet adopted domestic regulations to implement the SOLAS BNWAS requirements. Accordingly, carriage of a BNWAS on U.S. flagged vessels is voluntary. Note that any vessel operating on international voyages without a BNWAS past the applicable compliance date may be subject to detention by foreign port state officials and other administrative action by foreign authorities.

Regardless of whether a vessel is in compliance with the SOLAS BNWAS requirements, the Coast Guard or Recognized Class Society (RCS) will continue to issue SOLAS Safety Equipment Certificates to U.S. flagged vessels that are otherwise in compliance with applicable SOLAS requirements. In either case, each vessel's SOLAS Safety Equipment Certificate will reflect whether the vessel is in compliance with the SOLAS BNWAS requirements.

In determining whether a vessel's BNWAS is compliant with SOLAS, the Coast Guard or RCS will refer to the BNWAS performance standards outlined in IMO Resolution MSC.128(75). We also note that the IMO Report to the Maritime Safety Committee (NAV 54/25), dated August 14, 2008, states that the carriage of a BNWAS should not lead to a reduction in manning levels on the bridge. Consistent with the position of other SOLAS member flag states, the Coast Guard does not expect to issue exemptions or equivalencies from the BNWAS requirements to vessels based on the use of multiple bridge watch personnel alone. The Coast Guard would consider other requests for exemptions or equivalencies on a case-by-case basis under the authority granted under SOLAS Chapter V, Regulation 3. Any requests to the Coast Guard for exemptions or equivalencies should be made to Commandant (CG-CVC-1), via the local Officer in Charge, Marine Inspection.

Finally, operators seeking approval of a BNWAS installed prior to July 1, 2011 based on the amendments in IMO Resolution MSC.282(86) should submit a gap analysis of their BNWAS compared to the current BNWAS performance standards outlined in IMO Resolution MSC.128(75) to Commandant (CG-CVC-1) for review.

Authority: This notice is issued under the authority of 5 U.S.C. 552(a).

Dated: January 7, 2013.
Paul F. Thomas,
Captain, U.S. Coast Guard, Director, Inspections and Compliance.

[FR Doc. 2013-00512 Filed 1-11-13; 8:45 am]

BILLING CODE 9110-04-P